NUCLEAR REGULATORY COMMISSION

10 CFR Part 72

RIN 3150-AG15

Clarification and Addition of Flexibility; Correction

AGENCY: Nuclear Regulatory Commission.

ACTION: Final rule; correction.

SUMMARY: This document corrects a final rule appearing in the Federal Register on August 21, 2000 (65 FR 50606). This action is necessary to correct an erroneous Accession Number.

FOR FURTHER INFORMATION CONTACT: Anthony DiPalo, Office of Nuclear Material Safety and Safeguards, Washington, DC 20555-0001, telephone 301-415-6191, e-mail ajd@nrc.gov.

SUPPLEMENTARY INFORMATION: On page 50606, in the right column, in the third complete paragraph, in the last line, “ML003736106” is corrected to read “ML003701140”.

Dated at Rockville, Maryland, this day 29th of August 2000.
For the Nuclear Regulatory Commission.
David L. Meyer,
Chief, Rules and Directives Branch, Division of Administrative Services, Office of Administration.

[FR Doc. 00-22647 Filed 9-1-00; 8:45 am]

BILLING CODE 7590-01-P